COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and service(s) to the Procurement List that will be furnished by nonprofit agencies employing persons who are blind or have other severe disabilities, and delete product(s) and service(s) previously furnished by such agencies.

DATES: Comments must be received on or before: January 10, 2026 .

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed addition, the entities of the Federal Government identified in this notice will be required to procure the product(s) listed below from nonprofit agencies employing persons who are blind or have other severe disabilities.

The following product(s) are proposed for addition to the Procurement List for production by the nonprofit agencies listed:

5180-00-650-7821—Kit, Electrician's Tool, Quick Change, 23 PC

Authorized Source of Supply: Industries for the Blind and Visually Impaired, Inc., West Allis, WI

Mandatory For: Total Government Requirement

Contracting Activity: GENERAL SERVICES ADMINISTRATION, GSA/FSS GREATER SOUTHWEST ACQUISITI

In accordance with 41 CFR 51-5.3(b), the Committee intends to add the service listed below to the Procurement List as a mandatory purchase only for the contracting activity at the location listed with the proposed qualified nonprofit agency as the authorized source of supply. Prior to adding the service to the Procurement List, the Committee will consider other pertinent information, including information from Government personnel and relevant comments from interested parties regarding the Committee's intent to geographically limit this services requirement.

Services(s)

Service Type: Document Destruction

Mandatory for: U.S. Air Force, Oklahoma City-Air Logistics Complex, 7858 5th Street, Tinker AFB, OK

Authorized Source of Supply: The Meadows Center for Opportunity, Inc., Edmond, OK

Contracting Activity: DEPT. OF THE AIR FORCE, FA8132 AFSC PZIMC

Deletions

The following product(s) and service(s) are proposed for deletion to the Procurement List:

Product(s)

7920-01-215-6569—Cloth, Synthetic Shammy, Orange, 20″ x 23″

Mandatory For: Total Government Requirement

Contracting Activity: DEPT. OF VETERANS AFFAIRS, STRATEGIC ACQUISITION CENTER

Contracting Activity: GENERAL SERVICES ADMINISTRATION, GSA/FSS GREATER SOUTHWEST ACQUISITI

Service(s)

Service Type: Warehouse and Distribution Service

Mandatory for: National Institutes of Health, Information Resource Center, Rockville, MD, 6001 Executive Boulevard, Rockville, MD

Authorized Source of Supply: The ARC of the District of Columbia, Inc., Washington, DC

Contracting Activity: HEALTH AND HUMAN SERVICES, DEPARTMENT OF, NATIONAL INSTITUTES OF HEALTH NIDA

Service Type: Laundry Service

Mandatory for: U.S. Coast Guard, U.S. Coast Guard Base Portsmouth, Portsmouth, VA, 4000 Coast Guard Blvd., Portsmouth, VA

Authorized Source of Supply: Louise W. Eggleston Center, Inc., Norfolk, VA

Contracting Activity: DEPT. OF HOMELAND SECURITY, BASE PORTSMOUTH (00027)

Service Type: Multi-Function Support Services

Mandatory for: U.S. Army Corps of Engineers, Marine Corps Reserve Center, St. Paul, MN, 6400 Bloomington Road, St. Paul, MN

Authorized Source of Supply: AccessAbility, Inc., Minneapolis, MN

Contracting Activity: DEPT. OF DEFENSE, W074 ENDIST CHARLESTON

Michael R. Jurkowski,
Director, Business Operations.

[FR Doc. 2025-22507 Filed 12-10-25; 8:45 am]

BILLING CODE 6353-01-P